DEPARTMENT OF COMMERCE

National Oceanic and Atmospheric Administration

RIN 0648-XB083

Endangered Species; File No. 15672

AGENCY: National Marine Fisheries Service (NMFS), National Oceanic and Atmospheric Administration (NOAA), Commerce.

ACTION: Issuance of permit.

SUMMARY: Notice is hereby given that Molly Lutcavage, Ph.D., University of Massachusetts, Amherst, 108 Main Street, Gloucester MA 01930 has been issued a permit to take leatherback sea turtles (Dermochelys coriacea) for purposes of scientific research.

ADDRESSES: The permit and related documents are available for review upon written request or by appointment in the following offices:

Permits and Conservation Division, Office of Protected Resources, NMFS, 1315 East-West Highway, Room 13705, Silver Spring, MD 20910; phone (301) 427-8401; fax (301) 713-0376; and

Northeast Region, NMFS, 55 Great Republic Drive, Gloucester, MA 01930; phone (978) 281-9328; fax (978) 281-9394.

FOR FURTHER INFORMATION CONTACT: Colette Cairns or Amy Hapeman, (301) 427-8401.

SUPPLEMENTARY INFORMATION: On April 26, 2011, notice was published in the Federal Register (76 FR 23305) that a request for a scientific research permit to take leatherback sea turtles had been submitted by the above-named individual. The requested permit has been issued under the authority of the Endangered Species Act of 1973, as amended (ESA; 16 U.S.C. 1531 et seq.) and the regulations governing the taking, importing, and exporting of endangered and threatened species (50 CFR parts 222-226).

The five year permit authorizes Dr. Lutcavage to conduct research to characterize the distribution, movements and dive behavior of leatherback sea turtles in the waters of New England. Researchers may take up to 25 leatherback sea turtles annually that have been disentangled from fishing gear by a stranding network or captured with a breakaway hoopnet. Turtles would be measured, weighed, photographed and videotaped, flipper and passive integrated transponder tagged, blood, tissue, and fecal sampled, cloacal, oral, and nasal swabbed, tagged with an electronic transmitter, and released.

Issuance of this permit, as required by the ESA, was based on a finding that such permit (1) was applied for in good faith, (2) will not operate to the disadvantage of such endangered or threatened species, and (3) is consistent with the purposes and policies set forth in section 2 of the ESA.

Dated: March 13, 2012.
Tammy C. Adams,
Acting Chief, Permits and Conservation Division, Office of Protected Resources, National Marine Fisheries Service.

[FR Doc. 2012-6574 Filed 3-16-12; 8:45 am]

BILLING CODE 3510-22-P